NATIONAL SCIENCE FOUNDATION

Sunshine Act Meeting Notice; National Science Board

The National Science Board's Subcommittee on Facilities, pursuant to NSF regulations (45 CFR Part 614), the National Science Foundation Act, as amended (42 U.S.C. 1862n-5), and the Government in the Sunshine Act (5 U.S.C. 552b), hereby gives notice in regard to the scheduling of a meeting for the transaction of National Science Board business and other matters specified, as follows:

DATE: December 15, 2010.

TIME & SUBJECT MATTER OPEN: 11 a.m. to 12:30 p.m.

• NSF Principles & Portfolio Review.

• Future Budgetary Issues FY 2012 and beyond.

STATUS: Closed.

LOCATION: The closed session of this teleconference will be held at the National Science Foundation, 4201 Wilson Blvd., Arlington, VA 22230.

UPDATES & POINT OF CONTACT: Please refer to the National Science Board Web site http://www.nsf.gov/nsb for additional information and schedule updates (time, place, subject matter or status of meeting) may be found at http://www.nsf.gov/nsb/notices/. Point of contact for this meeting is: Jennie Moehlmann, National Science Board Office, 4201Wilson Blvd., Arlington, VA 22230. Telephone: (703) 292-7000.

Daniel A. Lauretano,
Counsel to the National Science Board.

[FR Doc. 2010-31157 Filed 12-8-10; 11:15 am]

BILLING CODE 7555-01-P